SURFACE TRANSPORTATION BOARD

[Docket No. FD 36172]

JP Rail, Inc. d/b/a Southern Railroad Company of New Jersey—Lease and Operation Exemption—Consolidated Rail Corporation

JP Rail, Inc. d/b/a Southern Railroad Company of New Jersey (SRNJ), a Class III rail carrier, has filed a verified notice of exemption under 49 CFR 1150.41 to lease from Consolidated Rail Corporation (Conrail),¹ a Class III railroad, and to operate an approximately 10.86-mile rail line, known as the Salem Running Track and the Swede Industrial Track, which extends from a point 125 feet +/− south of the southern edge of South Barber Avenue in the City of Woodbury, to milepost 10.86, at the southeast corner of Auburn Road in the Borough of Swedesboro, all in Gloucester County, N.J. (the Line). SRNJ states that the Line includes a public delivery track connected to the Salem Running Track near its northern terminus but does not include the Penns Grove Wye.

¹ SRNJ states that Conrail is indirectly owned by CSX Corporation and Norfolk Southern Corporation.

According to SRNJ, it is entering into a lease agreement and an interchange agreement with Conrail, which would allow SRNJ to operate over the Line and interchange railcars with Conrail at an interchange track located in the City of Woodbury.

SRNJ certifies that its projected revenues will not exceed those that would qualify it as a Class III rail carrier and will not exceed $5 million. SRNJ states that the agreement does not involve a provision or agreement that may limit future interchange with a third party connecting carrier.

The transaction may be consummated on or after May 2, 2018, the effective date of the exemption (30 days after the verified notice was filed).²

² SRNJ has requested that the effective date of the exemption be advanced to May 1, 2018, so that operations may commence on that date. This request will be addressed in a separate decision.

If the verified notice contains false or misleading information, the exemption is void ab initio. Petitions to revoke the exemption under 49 U.S.C. 10502(d) may be filed at any time. The filing of a petition to revoke will not automatically stay the effectiveness of the exemption. Petitions to stay must be filed no later than April 24, 2018 (at least seven days before the exemption becomes effective).

An original and 10 copies of all pleadings, referring to Docket No. FD 36172, must be filed with the Surface Transportation Board, 395 E Street SW, Washington, DC 20423-0001. In addition, a copy must be served on John K. Fiorilla, Capehart & Scatchard, P.A., 8000 Midlantic Drive, Suite 300S, Mount Laurel, NJ 08054.

According to SRNJ, this action is exempt from environmental review under 49 CFR 1105.6(c) and exempt from historic review under 49 CFR 1105.8(b).

Board decisions and notices are available on our website at “WWW.STB.GOV.”

Decided: April 11, 2018.
By the Board, Scott M. Zimmerman, Acting Director, Office of Proceedings.
Raina Contee,
Clearance Clerk.

[FR Doc. 2018-08024 Filed 4-16-18; 8:45 am]

BILLING CODE 4915-01-P